DEPARTMENT OF TRANSPORTATION

Federal Aviation Administration

14 CFR Part 71

[Docket No. FAA-2012-1335; Airspace Docket No. 12-ASO-19]

Establishment of Class E Airspace; Captiva, FL

AGENCY: Federal Aviation Administration (FAA), DOT.

ACTION: Final rule: delay of effective date.

SUMMARY: This action changes the effective date of a final rule, published in the Federal Register on June 6, 2013, establishing controlled airspace at Upper Captiva Island Heliport, Captiva, FL, to allow additional time for en route charting.

DATES: Effective date: 0901 UTC. The effective date of the final rule published on June 6, 2013 is delayed from June 27, 2013 to August 22, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On June 6, 2013, the FAA published a final rule, in the Federal Register establishing Class E airspace at Upper Captiva Island Heliport, Captiva, FL, (78 FR 33967). Subsequent to publication, the FAA found that the effective date of June 27, 2013 did not allow sufficient time for coordination with FAA's aeronautical data charting service, thereby making this action necessary.

The Class E airspace designations are published in Paragraphs 6005 of FAA order 7400.9W, dated August 8, 2012, and effective September 15, 2012, which is incorporated by reference in 14 CFR 71.1. The Class E airspace designations listed in this document will be published subsequently in the Order.

Final Rule Delay of Effective Date

Accordingly, pursuant to the authority delegated to me, the effective date on Airspace Docket No. 12-ASO-19, for the establishment of Class E airspace at Upper Captiva Island Heliport, Captiva, FL, as published in the Federal Register of June 6, 2013, (78 FR 33967), FR Doc. 2013-13105, is delayed from June 27, 2013, to August 22, 2013.

Issued in College Park, Georgia, on June 19, 2013.
Barry A. Knight,
Manager, Operations Support Group, Eastern Service Center, Air Traffic Organization.

[FR Doc. 2013-15287 Filed 6-27-13; 8:45 am]

BILLING CODE 4910-13-P